NATIONAL ARCHIVES AND RECORDS ADMINISTRATION

36 CFR Part 1200

RIN 3095-AB48

Official Seals and Logos

AGENCY: National Archives and Records Administration (NARA).

ACTION: Final rule.

SUMMARY: The National Archives and Records Administration (NARA) is modifying its regulations on the use of official NARA seals and logos by the public and other Federal agencies by updating two of the logos that are used. This part applies to the public and other Federal agencies.

DATES: This rule is effective June 8, 2006.

FOR FURTHER INFORMATION CONTACT: Kim Richardson at telephone number 301-837-2902 or fax number 301-837-0319.

SUPPLEMENTARY INFORMATION: NARA published a proposed rule on February 24, 2006, at 71 FR 9503, for a 60-day public comment period. NARA did not receive any comments and therefore, we are not making any changes in this final rule.

This final rule is not a significant regulatory action for the purposes of Executive Order 12866 and has not been reviewed by the Office of Management and Budget. This rule is not a major rule as defined in 5 U.S.C. chapter 8, Congressional Review of Agency Rulemaking. As required by the Regulatory Flexibility Act, I certify that this rule will not have a significant impact on a substantial number of small entities. This regulation does not have any federalism implications.

List of Subjects in 36 CFR Part 1200

Seals and insignia.

For the reasons set forth in the preamble, NARA is amending part 1200 of title 36, Code of Federal Regulations, as follows:

PART 1200—OFFICIAL SEALS

1. The authority citation for part 1200 continues to read as follows:

Authority: 18 U.S.C. 506, 701, and 1017; 44 U.S.C. 2104(e), 2116(b), 2302.

2. Revise paragraphs (a)(1) and (a)(2) of § 1200.7 to read as follows:

§ 1200.7 What are NARA logos and how are they used?

(a) * * *

(1) The Federal Records Center Program;

(2) The National Historical Publications and Records Commission;

* * * * *

Dated: May 3, 2006.
Allen Weinstein,
Archivist of the United States.

[FR Doc. 06-4302 Filed 5-8-06; 8:45 am]

BILLING CODE 7515-01-P